DEPARTMENT OF COMMERCE

International Trade Administration

[A-570-847]

Persulfates From the People's Republic of China: Final Results of Expedited Third Sunset Review of Antidumping Duty Order

AGENCY: Import Administration, International Trade Administration, Department of Commerce.

SUMMARY: On March 1, 2013, the Department of Commerce (“the Department”) initiated a sunset review of the antidumping duty order on persulfates from the People's Republic of China (“PRC”). On the basis of a notice of intent to participate, and an adequate substantive response filed on behalf of domestic interested parties, as well as a lack of response from any respondent interested parties, the Department conducted an expedited (120-day) sunset review. As a result of the sunset review, the Department finds that revocation of the antidumping duty order would be likely to lead to continuation or recurrence of dumping. The magnitude of the dumping margins likely to prevail is identified in the Final Results of Review section of this notice.

DATES: Effective Date: July 8, 2013.

FOR FURTHER INFORMATION CONTACT: Magd Zalok, AD/CVD Operations, Office 4, Import Administration, International Trade Administration, U.S. Department of Commerce, 14th Street and Constitution Avenue NW., Washington, DC 20230; telephone: (202) 482-4162.

SUPPLEMENTARY INFORMATION:

Background

On March 1, 2013, the Department published the notice of initiation of the sunset review of the antidumping duty order on persulfates from the PRC pursuant to section 751(c) of the Tariff Act of 1930, as amended (“the Act”).¹ On March 15, 2013, the Department received a notice of intent to participate from a domestic interested party, FMC Corporation (“FMC”), within the deadline specified in 19 CFR 315.218(d)(1)(i), and provided information required under 19 CFR 315.218(d)(1)(ii). FMC claimed interested party status under section 771(9)(C) of the Act as a domestic producer of persulfates in the United States and a petitioner in the original investigation. On April 1, 2013, the Department received a substantive response from FMC within the deadline specified in 19 CFR 351.218(d)(3)(i). We did not receive responses from any respondent interested parties to this proceeding. As a result, pursuant to section 751(c)(3)(B) of the Act and 19 CFR 351.218(e)(1)(ii)(C)(2), the Department determined to conduct an expedited review of the order.

¹ See Initiation of Five-Year (“Sunset”) Review, 76 FR 13862 (March 1, 2013).

Scope of the Order

The products covered by the order are persulfates, including ammonium, potassium, and sodium persulfates. The chemical formula for these persulfates are, respectively, (NH4)2S2O8, K2S2O8, and Na2S2O8. Potassium persulfates are currently classifiable under subheading 2833.40.10 of the Harmonized Tariff Schedule of the United States (“HTSUS”). Sodium persulfates are classifiable under HTSUS subheading 2833.40.20. Ammonium and other persulfates are classifiable under HTSUS subheadings 2833.40.50 and 2833.40.60. Although the HTSUS subheadings are provided for convenience and customs purposes, the written description of the scope of the order is dispositive.

Analysis of Comments Received

All issues raised in this review are addressed in the “Issues and Decision Memorandum” (“Decision Memorandum”) from Christian Marsh, Deputy Assistant Secretary for Antidumping and Countervailing Duty Operations, to Paul Piquado, Assistant Secretary for Import Administration, dated July 1, 2013, which is hereby adopted by this notice. The issues discussed in the Decision Memorandum include the likelihood of continuation or recurrence of dumping and the magnitude of the margins likely to prevail if the order were revoked.

Parties can find a complete discussion of all issues raised in this review and the corresponding recommendations in this public memorandum, which is on file in the Central Records Unit (“CRU”), Room 7046 of the main Department building, as well as electronically via Import Administration's Antidumping and Countervailing Duty Centralized Electronic Service System (“IA ACCESS”). IA ACCESS is available to registered users at http://iaacess.trade.gov and in the CRU. In addition, a complete version of the Decision Memorandum can be accessed directly on the web at http://www.trade.gov/ia/. The signed Decision Memorandum and the electronic versions of the Decision Memorandum are identical in content.

Final Results of Review

Pursuant to section 752(c)(3) of the Act, we determine that revocation of the antidumping duty order on persulfates from the PRC would be likely to lead to continuation or recurrence of dumping. Furthermore, we find that the magnitude of the margin of dumping that is likely to prevail if the order was revoked to be the following weighted-average percentage margins:

Exporters | Weighted-average margin (percent)
Sinochem Jiangsu Wuxi Import & Export Corporation | 119.02
Shanghai Ai Jian Import & Export Corporation (Shanghai AJ) | 119.02
Guangdong Petroleum Chemical Import and Export Trade |
(Guangdong Petroleum) | 119.02
PRC-wide | 119.02

Administrative Protective Order

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act.

Dated: July 1, 2013.
Paul Piquado,
Assistant Secretary for Import Administration.

[FR Doc. 2013-16346 Filed 7-5-13; 8:45 am]

BILLING CODE 3510-DS-P